DEPARTMENT OF ENERGY

[FE Docket No. 01-28-NG]

Office of Fossil Energy; H.Q. Energy Services (U.S.) Inc.; Order Granting Long-Term Authorization To Import Natural Gas From Canada

Agency: Office of Fossil Energy, DOE.

ACTION: Notice of order.

SUMMARY: The Office of Fossil Energy of the Department of Energy gives notice that on June 25, 2001, it issued DOE/FE Order No. 1694 granting H.Q. Energy Services (U.S.) Inc. (HQUS) long-term authorization to import from Canada up to 48,500 thousand cubic feet per day of natural gas beginning on the date of first import delivery and extending through December 14, 2005, pursuant to the terms of a natural gas sales agreement dated July 15, 1999, between HQUS and Marketing d'Energie HQ Inc. This natural gas may be imported from Canada at the interconnection point between St. Stephen in New Brunswick, Canada and Calais, Maine.

This order may be found on the FE web site at http://www.fe.doe.gov, or on our electronic bulletin board at (202) 586-7853. It is also available for inspection and copying in the Office of Natural Gas & Petroleum Import & Export Activities docket room, 3E-033, Forrestal Building, 1000 Independence Avenue, S.W., Washington, D.C. 20585-0334, (202) 586-9478. The docket room is open between the hours of 8:00 a.m. and 4:30 p.m., Monday through Friday, except Federal holidays.

Issued in Washington, D.C., July 25, 2001.
Clifford P. Tomaszewski,
Manager, Natural Gas Regulation, Office of Natural Gas & Petroleum, Import and Export Activities, Office of Fossil Energy.

[FR Doc. 01-22232 Filed 9-4-01; 8:45 am]

BILLING CODE 6450-01-P